DEPARTMENT OF JUSTICE

[AAG/A Order No. 017-2003]

Privacy Act of 1974; Computer Matching Agreement

AGENCY: Department of Justice.

ACTION: Notice-computer matching between the Department of Justice and the Internal Revenue Service, Department of Treasury.

SUMMARY: In accordance with the Privacy Act of 1974 (5 U.S.C. 552a), as amended by the Computer Matching and Privacy Protection Act of 1988 (Pub. L. 100-503), Office of Management and Budget (OMB) Guidelines on the Conduct of Matching Programs (54 FR 25818 published June 19, 1989), OMB Bulletin 89-22, “Instructions on Reporting Computer Matching Programs to the Office of Management and Budget (OMB), Congress and the Public,” and OMB Circular No. A-130, Revised February 8, 1996, “Management of Federal Information Resources”, the Department of Justice is issuing a public notice of its intent to conduct a computer matching program with the Internal Revenue Service, Department of Treasury. Under this matching program, entitled Taxpayer Address Request, the IRS will provide information relating to taxpayers' mailing addresses to the DOJ for the purposes of enabling DOJ to locate debtors to initiate litigation and/or enforce the collection of debts owed by the taxpayers to the United States.

DATES: Effective date: The matching program will become effective 40 days after a copy of the agreement, as approved by the Data Integrity Board of each agency, is sent to Congress and the Office of Management and Budget, or 30 days after publication of this notice in the Federal Register, whichever is later. The matching program will continue for 18 months after the effective date and may be extended for an additional 12 months, if the conditions specified in 5 U.S.C. 552a(o)(2)(D) have been met.

Reporting:

In accordance with the Privacy Act of 1974 (5 U.S.C. 552a), as amended by the Computer Matching and Privacy Protection Act of 1988 (Pub. L. 100-503), Office of Management and Budget (OMB) Guidelines on the Conduct of Matching Programs (54 FR 25818 published June 19, 1989), OMB Bulletin 89-22, “Instructions on Reporting Computer Matching Programs to the Office of Management and Budget (OMB), Congress and the Public,” and OMB Circular No. A-130, Revised February 8, 1996, “Management of Federal Information Resources”, copies of this Notice and report are being provided to the Committee on Government Reform of the House of Representatives, the Committee on Governmental Affairs of the Senate, and the Office of Management and Budget.

Authority:

This matching program is being conducted under the authority of the Internal Revenue Code (IRC) 6103(m)(2). This provides for disclosure, upon written request, of a taxpayer's mailing address for use by officers, employees, or agents of a Federal agency for the purpose of locating such taxpayer to collect or compromise a Federal claim against the taxpayer in accordance with sections 3711, 3717, and 3718 of title 31 of the United States Code, statutory provisions which authorize DOJ to collect debts on behalf of the United States through litigation.

Objectives To Be Met By the Matching Program:

The purpose of this program is to provide DOJ with the most current addresses of taxpayers to notify debtors of legal actions that may be taken by DOJ and the rights afforded them in the litigation to enforce collection of debts owed to the United States.

Records To Be Matched:

DOJ will provide records from the Debt Collection Management System, JUSTICE/JMD-006, last published at 58 FR 60058-60060 (November 12, 1993). This system of records contains information on persons indebted to the United States who have allowed their debts to become delinquent and whose debts have been sent by client Federal agencies to DOJ for enforced collection through litigation. DOJ records will be matched against records contained in the Privacy Act System of Records: Individual Master File (IMF), Treasury/IRS 24.030, last published at 66 FR 63800 (December 10, 2001), which contains taxpayer entity records and tax modular records which contain all records relative to specific tax returns for each applicable tax period or year.

Categories of Records/Individuals Involved:

DOJ will submit the nine digit Social Security Number (SSN) and four character Name Control (the first four letters of the surname) of each individual whose current address is requested. IRS will provide an address for each taxpayer whose SSN and Name Control matches the records submitted by DOJ. IRS will provide a code explaining the type of error, if any, encountered during processing if no address information is provided, or no match is found.

Notice Procedures:

IRS provides direct notice to taxpayers in the instructions to Forms 1040, 1040A, and 1040EZ, that information provided on U.S. Individual Income Tax Returns may be given to other Federal agencies, as provided by law. For the records involved in this match, both IRS and DOJ have provided constructive notice to records subjects through the publication, in the Federal Register, of system of record notices that contain routine uses permitting disclosures for this matching program.

Address for Receipt of Public Comments or Inquiries:

Interested persons are invited to submit written comments regarding this notice to Imogene McCleary, Deputy Director, Debt Collection Management, Justice Management Division, 325 7th Street NW., 2nd Floor South, Washington, DC 20530.

Dated: February 13, 2004.
Paul R. Corts,
Assistant Attorney General for Administration.

[FR Doc. 04-3793 Filed 2-20-04; 8:45 am]

BILLING CODE 4410-CN-P